DEPARTMENT OF LABOR

Employment and Training Administration

[TA-W-71,572, TA-W-71,572A, et al.]

Notice of Revised Determination on Reconsideration; Severstal Wheeling, Inc., et al.

TA-W-71,572

Severstal Wheeling, Inc., a Subsidiary of Severstal North America, Inc. Martins Ferry, Ohio

TA-W-71,572A

Severstal Wheeling, Inc., a Subsidiary of Severstal North America, Inc., Yorkville, Ohio

TA-W-71,572B

Severstal Wheeling, Inc., a Subsidiary of Severstal North America, Inc., Mingo Junction, Ohio

TA-W-71,572C

Severstal Wheeling, Inc., a Subsidiary of Severstal North America, Inc., Steubenville, Ohio

On October 15, 2010, the Department issued a Notice of Affirmative Determination Regarding Application for Reconsideration for workers and former workers of Severstal Wheeling, Inc., a subsidiary of Severstal North America, Inc., Martins Ferry, Ohio (TA-W-71,572); Severstal Wheeling, Inc., a subsidiary of Severstal North America, Inc., Yorkville, Ohio (TA-W-71,572A); Severstal Wheeling, Inc., a subsidiary of Severstal North America, Inc., Mingo Junction, Ohio (TA-W-71,572B); and Severstal Wheeling, Inc., a subsidiary of Severstal North America, Inc., Steubenville, Ohio (TA-W-71,572C) to apply for Trade Adjustment Assistance (TAA). The workers produce a variety of steel coils.

The subject worker groups do not include any on-site leased or temporary workers and exclude workers of Severstal International, Sparrows Point, Maryland (TA-W-74,919; certification issued on February 9, 2011).

During the reconsideration investigation, the Department received additional and new information from the subject firm, conducted an expanded customer survey, reviewed relevant information obtained from affiliated facilities, and analyzed import data of articles like or directly competitive with the coils produced at the subject facilities.

Section 222(a)(1) has been met because a significant number or proportion of workers at each of the subject facilities became totally or partially separated, or threatened with such separation.

Section 222(a)(2)(A)(i) has been met because sales or production of steel coils at each of the subject facilities decreased absolutely.

Section 222(a)(2)(A)(ii) has been met because there were increased imports of articles like or directly competitive with the steel coils produced at the respective facilities, during the relevant periods.

Finally, Section 222(a)(2)(A)(iii) has been met because the increased imports contributed importantly to worker group separations and sales/production declines at each of the subject facilities.

Conclusion

After careful review of the additional facts obtained on reconsideration, I determine that workers of the subject facilities meet the worker group certification criteria under Section 222(a) of the Act, 19 U.S.C. 2272(a). In accordance with Section 223 of the Act, 19 U.S.C. 2273, I make the following certification:

All workers of Severstal Wheeling, Inc., a subsidiary of Severstal North America, Inc., Martins Ferry, Ohio (TA-W-71,572); Severstal Wheeling, Inc., a subsidiary of Severstal North America, Inc., Yorkville, Ohio (TA-W-71,572A); Severstal Wheeling, Inc., a subsidiary of Severstal North America, Inc., Mingo Junction, Ohio (TA-W-71,572B); and Severstal Wheeling, Inc., a subsidiary of Severstal North America, Inc., Steubenville, Ohio (TA-W-71,572C), who became totally or partially separated from employment on or after June 17, 2008, through two years from the date of this revised certification, and all workers in the group threatened with total or partial separation from employment on date of certification through two years from the date of certification, are eligible to apply for adjustment assistance under Chapter 2 of Title II of the Trade Act of 1974, as amended.

Signed in Washington, DC, this 6th day of May, 2011.
Del Min Amy Chen,
Certifying Officer, Office of Trade Adjustment Assistance.

[FR Doc. 2011-12397 Filed 5-19-11; 8:45 am]

BILLING CODE 4510-FN-P